DEPARTMENT OF ENERGY

Federal Energy Regulatory Commission

Combined Notice of Filings #1

Take notice that the Commission received the following electric corporate filings:

Docket Numbers: EC12-22-000.

Applicants: Golden Winds Holding, LLC.

Description: Golden Winds Holding, LLC Application for Approval under Section 203 of the Federal Power Act and Request for Expedited Action.

Filed Date: 11/04/2011.

Accession Number: 20111104-5217.

Comment Date: 5 p.m. ET on 11/25/2011.

Docket Numbers: EC12-23-000.

Applicants: Entergy Nighthawk LP, LLC, Entergy Nighthawk GP, LLC, FPLE Rhode Island State Energy, L.P., FPLE Rhode Island State Energy GP, Inc., FPLE Rhode Island State Energy LP, LLC.

Description: Application of FPLE Rhode Island State Energy, L.P., et al. for Section 203 Authorization.

Filed Date: 11/04/2011.

Accession Number: 20111104-5222.

Comment Date: 5 p.m. ET on 11/25/2011.

Take notice that the Commission received the following electric rate filings:

Docket Numbers: ER09-1286-005; ER09-1287-005; ER10-1362-002; ER11-3620-001; ER11-2882-002; ER05-1218-006; ER05-1219-006; ER96-149-015; ER10-71-003; ER00-2887-009; ER06-703-005; ER07-1341-006.

Applicants: York Generation Company LLC, Dartmouth Power Associates Limited Partnership, Camden Plant Holding, L.L.C., Newark Bay Cogeneration Partnership, L.P, Elizabethtown Energy, LLC, Lumberton Energy, LLC, Lyonsdale Biomass, LLC, Elmwood Park Power LLC, Hatchet Ridge Wind, LLC, Pedricktown Cogeneration Company LP, ReEnergy Sterling CT Limited Partnership, Bayonne Plant Holding, L.L.C.

Description: Notification of Non-Material Change in Status.

Filed Date: 11/04/2011.

Accession Number: 20111104-5225.

Comment Date: 5 p.m. ET on 11/25/2011.

Docket Numbers: ER10-2651-002.

Applicants: Lockhart Power Company.

Description: Lockhart Power Company submits an Asset Appendix.

Filed Date: 11/04/2011.

Accession Number: 20111104-5070.

Comment Date: 5 p.m. ET on 11/25/2011.

Docket Numbers: ER10-2881-002; ER10-2882-002; ER10-2883-002; ER10-2884-002; ER10-2885-002; ER10-2641-002; ER10-2663-002; ER10-2886-002.

Applicants: Alabama Power Company, Southern Power Company, Mississippi Power Company, Georgia Power Company, Gulf Power Company, Oleander Power Project, LP, Southern Company—Florida LLC, Southern Turner Cimarron I, LLC.

Description: Supplement to Updated Market Power Analysis of Southern Companies and their affiliates for the Southeast Region.

Filed Date: 11/04/2011.

Accession Number: 20111104-5182.

Comment Date: 5 p.m. ET on 11/25/2011.

Docket Numbers: ER12-354-000.

Applicants: Carolina Power & Light Company.

Description: Rate Schedule No. 121 of Carolina Power and Light Company to be effective 1/4/2012.

Filed Date: 11/04/2011.

Accession Number: 20111104-5090.

Comment Date: 5 p.m. ET on 11/25/2011.

Docket Numbers: ER12-355-000.

Applicants: Carolina Power & Light Company.

Description: Rate Schedule No. 191 of Carolina Power and Light Company to be effective 1/4/2012.

Filed Date: 11/04/2011.

Accession Number: 20111104-5094.

Comment Date: 5 p.m. ET on 11/25/2011.

Docket Numbers: ER12-356-000.

Applicants: Florida Power & Light Company.

Description: FPL Revision to Attachment H of the FPL OATT to be effective 11/30/2011.

Filed Date: 11/04/2011.

Accession Number: 20111104-5185.

Comment Date: 5 p.m. ET on 11/18/2011.

Docket Numbers: ER12-357-000.

Applicants: PacifiCorp.

Description: PAC Energy NITSA Rev 10 to be effective 10/28/2011.

Filed Date: 11/04/2011.

Accession Number: 20111104-5197.

Comment Date: 5 p.m. ET on 11/25/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2011.
Nathaniel J. Davis, Sr.,
Deputy Secretary.

[FR Doc. 2011-29393 Filed 11-14-11; 8:45 am]

BILLING CODE 6717-01-P